DEPARTMENT OF THE INTERIOR

National Park Service

Notice of Availability of the Draft White-tailed Deer Management Plan Environmental Impact Statement, Catoctin Mountain Park, MD

AGENCY: National Park Service, Department of the Interior.

ACTION: Notice of Availability of the Draft White-tailed Deer Management Plan/Environmental Impact Statement for Catoctin Mountain Park.

SUMMARY: Pursuant to the National Environmental Policy Act of 1969, the National Park Service (NPS) announces the availability of the Draft White-tailed Deer Management Plan/Environmental Impact Statement (DEIS) for Catoctin Mountain Park, Thurmont, Maryland. The purpose of the DEIS is to identify a preferred white-tailed deer management plan from a range of alternatives that supports forest regeneration and provides for long-term protection, conservation, and restoration of native species and cultural resources. The DEIS evaluates four alternatives for managing white-tailed deer in the park. The document describes and analyzes the environmental impacts of three action alternatives and the no-action alternative. When implemented, the plan will guide deer management actions over the next 15 years.

DATES: The NPS invites comments regarding the DEIS from the public. Comments will be accepted for a period of 60 days from the date the Environmental Protection Agency's Notice of Availability is published in the Federal Register. In addition, the NPS intends to conduct a public meeting. Please check local newspapers, the park's Web site, http://www.nps.gov/cato, or contact the name listed below to find out when and where the meeting will be held. A brochure has been prepared that describes the DEIS and provides information regarding the public meeting.

There are several ways to submit comments. During the public meeting, the NPS will accept written comments as well as provide for verbal comments to be recorded. We encourage comments to be submitted electronically through the NPS Planning, Environment, and Public Comment (PEPC) Web site http://parkplanning.nps.gov. Written comments may also be submitted to: Superintendent, Catoctin Mountain Park, 6602 Foxville Road, Thurmont, Maryland, 21788.

ADDRESSES: The DEIS will be available for public review online at the PEPC Web site at http://parkplanning.nps.gov. Once on the PEPC Web site, select “Catoctin Mountain Park” in order to access the DEIS. Bound copies of the DEIS will be available at the Catoctin Mountain Park Visitor Center located at the intersection of Maryland Route 77 and Park Central Road, at park headquarters located approximately 2 miles west of Thurmont on Maryland Route 77, and at public libraries in Frederick, Thurmont, Smithsburg, and Hagerstown, Maryland.

FOR FURTHER INFORMATION CONTACT: Donna Swauger, Environmental Protection Specialists, Catoctin Mountain Park, 6602 Foxville Road, Thurmont, Maryland 21788, (301) 416-0135.

SUPPLEMENTARY INFORMATION: The DEIS evaluates four alternatives for managing white-tailed deer in the park. The document describes and analyzes the environmental impacts of three action alternatives and the no-action alternative.

Alternative A (no action) would continue the existing deer management plan of limited fencing, use of repellents in landscaped areas, monitoring, data management, and research; no new deer management actions would be implemented.

Alternative B would combine several non-lethal actions including large-scale exclosures (fencing), additional use of repellents in limited areas, and reproductive control of does to gradually reduce deer population in the park.

Under Alternative C (NPS Preferred Alternative), qualified federal employees or contractors would directly reduce the deer population in the park through sharpshooting and capture and euthanasia, where appropriate.

Alternative D would combine actions of Alternative C to directly reduce the deer population and reproductive control of does as under Alternative B to maintain population levels.

Comments will be analyzed and responded to within the final White-tailed Deer Management Plan/Environmental Impact Statement. Our practice is to make comments, including names, home addresses, home phone numbers and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documental circumstances, this information will be released. We will always make submissions from organizations or businesses, and from individuals identifying themselves as representatives of or officials of organizations or businesses, available for public inspection in their entirety.

Dated: October 20, 2006.
Joseph M. Lawler,
Regional Director, National Capital Region.

[FR Doc. 06-9331 Filed 11-21-06; 8:45 am]

BILLING CODE 4312-59-M